NUCLEAR REGULATORY COMMISSION

[Docket Nos. STN 50-456 and STN 50-457]

Exelon Generation Company, LLC; Notice of Withdrawal of Application for Amendment to Facility Operating License

The U.S. Nuclear Regulatory Commission (the Commission) has granted the request of Exelon Generation Company, LLC (the licensee), to withdraw its August 2, 2001, application as supplemented by their letters dated August 6, 2001, and August 7, 2001, for proposed amendment to Facility Operating License Nos. NPF-72 and NPF-77 for the Braidwood Station, Unit Nos. 1 and 2, located in Will County, Illinois.

The proposed amendment would have revised the technical specification (TS), on an exigent basis, allowing the licensee to temporarily increase the average temperature limit of the UHS from 100 °F to 102 °F through September 30, 2001.

The Commission had previously issued a Notice of Consideration of Issuance of Amendment published in the Federal Register on August 15, 2001, (66 FR 42895). However, by letter dated September 21, 2001, the licensee withdrew the proposed change.

For further details with respect to this action, see the application for amendment dated August 2, 2001, as supplemented by their letters dated August 6, 2001, August 7, 2001, and the licensee's letter dated September 21, 2001, which withdrew the application for license amendment. Documents may be examined, and/or copied for a fee, at the NRC's Public Document Room, located at One White Flint North, 11555 Rockville Pike (first floor), Rockville,Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 11th day of October 2001.
For the Nuclear Regulatory Commission.
Mahesh Chawla,
Project Manager, Section 2, Project Directorate III,Division of Licensing Project Management, Office of Nuclear Reactor Regulation.

[FR Doc. 01-26106 Filed 10-16-01; 8:45 am]

BILLING CODE 7590-01-P